DEPARTMENT OF LABOR

Employment and Training Administration

[TA-W-51,248]

Agilent Technologies, Rohnert Park, CA; Notice of Termination of Investigation

Pursuant to section 221 of the Trade Act of 1974, as amended, an investigation was initiated on March 21, 2003 in response to a worker petition filed by a company official on behalf of workers at Agilent Technologies, Rohnert Park, California.

The petitioning worker group is included in a petition filed on March 13, 2003 (TA-W-51,247) that is the subject of an ongoing investigation for which a determination has not yet been issued. Further investigation in this case would serve no purpose and the investigation has been terminated.

Signed at Washington, DC, this 8th day of April, 2003.
Linda G. Poole,
Certifying Officer, Division of Trade Adjustment Assistance.

[FR Doc. 03-10145 Filed 4-23-03; 8:45 am]

BILLING CODE 4510-30-P